DEPARTMENT OF TRANSPORTATION

Federal Highway Administration

Environmental Impact Statement: Greene, Christian and Lawrence Counties, Missouri

AGENCY: Federal Highway Administration (FHWA)

ACTION: Notice of intent.

SUMMARY: The FHWA is issuing this notice to advise the public that an environmental impact statement (EIS) will be prepared for improvements to the U.S. 60 highway corridor in Greene, Christian, and Lawrence Counties, Missouri.

FOR FURTHER INFORMATION CONTACT: Ms. Peggy Casey, Environmental Projects Engineer, FHWA Division Office, 209 Adams Street, Jefferson City, MO 65101; Telephone: (573) 638-2601 or Mr. Henry Hungerbeeler, Director, Missouri Department of Transportation, P.O. Box 270, Jefferson City, Missouri, 65102; Telephone (573) 721-2551.

SUPPLEMENTARY INFORMATION: The FHWA, in cooperation with the Missouri Department of Transportation (MoDOT), will prepare an EIS on a proposed project to improve the transportation system in Greene, Christian and Lawrence Counties, Missouri.

This proposal is being considered to address existing and future transportation demand on U.S. 60, to address safety issues along existing U.S. 60, and to preserve land for future transportation improvements. Alternatives under consideration include: (1) no build; (2) improving the existing facility; (3) mass transit; (4) Transportation System Management; and (5) off-alignment build alternatives. The proposed project will likely include transportation improvements or transportation corridor preservation on an approximate 20-mile portion of U.S. 60 between the James River Freeway in Greene County, Missouri and a point along U.S. 60 just southwest of Marionville in Lawrence County, Missouri.

A project advisory committee comprised of federal and state agencies, local officials, and those with environmental and other community interests will be established to provide input during development and refinement of alternatives and corridor reservation activities. A series of public meetings and other public involvement activities will be held to engage the regional community in the decision making process. In addition, a public hearing will be held to present the findings of the draft EIS. The draft EIS will be available for public and agency review and comment prior to the public hearing. Agencies having an interest in or jurisdiction regarding the proposed action will be contacted through interagency coordination meetings and mailings. Those who have previously expressed, or are known to have interest in the proposal will receive ample opportunity to comment and provide input.

To ensure that the full range of issues related to this proposed action are addressed and all substantive issues are identified, comments and suggestions are invited from all interested parties. Comments or questions concerning this proposed action and the EIS should be directed to the FHWA or MoDOT at the addresses provided above.

(Catalog of Federal Domestic Assistance Program Number 20.205, Highway Planning and Construction. The regulations implementing Executive Order 12372 regarding intergovernmental consultation on federal programs and activities apply to this program)

Issued on: August 22, 2001.
Peggy J. Casey.
Environmental Projects Engineer, Jefferson City.

[FR Doc. 01-22029 Filed 8-30-01; 8:45 am]

BILLING CODE 4910-22-M